DEPARTMENT OF HOMELAND SECURITY

Coast Guard

[Docket No. USCG-2014-USCG-2014-0126]

International Code for Ships Using Gases or Other Low-Flashpoint Fuels (IGF Code)

AGENCY: Coast Guard, DHS.

ACTION: Notice of public workshop.

SUMMARY: The United States Coast Guard will hold a public workshop in Washington, DC on topics related to the development of the International Maritime Organization's International Code for Ships Using Gases or Other Low-Flashpoint Fuels (IGF Code). Various safety topics will be discussed including design, equipment, operational and training requirements. This workshop is intended to be an interactive exchange of information between policymakers, industry experts, and interested members of the public.

DATES: The public workshop will be held on Tuesday, April 1, 2014, beginning at 9 a.m., Eastern Time and ending at 4 p.m., Eastern Time. This workshop is open to the public.

ADDRESSES: The public workshop will be held at the U.S. Department of Transportation, West Building Conference Center, 1200 New Jersey Avenue SE., Washington, DC 20590-0001, approximately 1 block from the Navy Yard Metro Station. Due to building security requirements, each visitor must present two forms of government-issued photo identification in order to gain entrance to the building.

FOR FURTHER INFORMATION CONTACT: If you have questions concerning the workshop, please call or email Mr. Timothy Meyers, U.S. Coast Guard; telephone 202-372-1365, email timothy.e.meyers@uscg.mil.

SUPPLEMENTARY INFORMATION:

Discussion

This workshop is intended to be an interactive exchange of information between policymakers, industry experts, and interested members of the public. It will include an overview of the IGF Code development to date, and a discussion of the current draft text with focus on specific areas of interest to vessel design and operational safety. The primary topics that will be considered at the public workshop include:

• General overview—U.S. involvement in development of the IGF Code,

• Review of draft IGF Code layout/structure/table of contents,

• Ship design areas of focus, including: risk analysis requirements; machinery space concepts; fuel tank design & arrangement; piping systems; bunkering arrangements; ventilation; hazardous areas; gas detection and fire safety systems,

• Operational and training requirements,

• Fuels other than liquefied natural gas.

If you are interested in formally presenting information on a topic on the agenda please contact Mr. Timothy Meyers (see FOR FURTHER INFORMATION CONTACT). All presentations received will be posted without change to http://www.regulations.gov, where they will appear under Docket No. USCG-2014-0126 and can be viewed by following that Web site's instructions. Please note that any personal information you include can be searchable online (see the Federal Register Privacy Act notice regarding our public dockets, 73 FR 3316, Jan. 17, 2008).

Please note that the workshop has a limited number of seats and may close early if all business is finished.

Members of the public may attend this workshop up to the seating capacity of the room, and are encouraged to participate and join in discussions, subject to the discretion of the moderator. To facilitate the security process related to building access, or to request reasonable accommodation for persons with disabilities or special needs, those who plan to attend should contact the meeting coordinator, Mr. Timothy Meyers (see FOR FURTHER INFORMATION CONTACT), or in writing at Commandant (CG-ENG-3), U.S. Coast Guard, Stop 7509, 2703 Martin Luther King Jr. Ave. SE., Washington, DC 20593-7509, not later than Monday, March 24, 2014. We may not be able to accommodate requests made after March 24, 2014. Please note that due to building security requirements, each visitor must present two valid, government-issued photo identifications.

This notice is published under the authority of 5 U.S.C. 552(a).

Dated: March 4, 2014.
J. G. Lantz,
Director of Commercial Regulations and Standards, U.S. Coast Guard.

[FR Doc. 2014-05398 Filed 3-11-14; 8:45 am]

BILLING CODE 9110-04-P